DEPARTMENT OF AGRICULTURE

Forest Service

Final Record of Decision for Greater Sage-Grouse Bi-State Distinct Population Segment Forest Plan Amendment

AGENCY: Forest Service, USDA.

ACTION: Notice of plan amendment approval.

SUMMARY: Forest Supervisor William A. Dunkelberger signed the final Record of Decision (ROD) for the Greater Sage-grouse Bi-state Distinct Population Segment Forest Plan Amendment (Amendment) on May 16, 2016. The final ROD documents the Forest Supervisor's decision and rationale for approving the plan amendment.

DATES: The effective date of the plan amendment is 30 calendar days after publication of this notice.

ADDRESSES: Humboldt-Toiyabe National Forest; 1200 Franklin Way, Sparks, NV 89431.

FOR FURTHER INFORMATION CONTACT: To view the final ROD, plan amendment, FEIS, and other related documents, please visit the Humboldt-Toiyabe Web site at http://www.fs.usda.gov/project/?project=40683.

Further information about the Humboldt-Toiyabe National Forest plan amendment process can be obtained from James Winfrey during normal office hours (weekdays 8:00 a.m. to 4:30 p.m. at the Humboldt-Toiyabe National Forest Supervisor's Office.

Phone/voicemail: 775-355-5308. Individuals who use telecommunication devices for the deaf (TTD) may call the Federal Information Relay Service (FIRS) at 1-800-877-8339 between 8:00 a.m. and 8:00 p.m., Eastern Standard Time, Monday through Friday.

SUPPLEMENTARY INFORMATION: The plan amendment describes desired conditions, objectives, standards and guidelines, to conserve, enhance, and/or restore sagebrush and associated habitats to provide for the longterm viability of the bi-state sage grouse. The amendment will guide project and activity decision making and resource management activities across bi-state sage grouse habitat on the Humboldt-Toiyabe National Forest.

Dated: May 16, 2016.
William A. Dunkelberger,
Forest Supervisor.

[FR Doc. 2016-11933 Filed 5-19-16; 8:45 am]

BILLING CODE 3411-15-P